DEPARTMENT OF HOMELAND SECURITY

Bureau of Customs and Border Proctection

[CBP Decision 03—07]

Customs Accreditation of Alchem Laboratory, Inc., as a Commercial Laboratory

AGENCY: Customs and Border Protection, Department of Homeland Security.

ACTION: Notice of Accreditation of Alchem Laboratory, Inc. of Ponce, Puerto Rico, as a Commercial Laboratory.

SUMMARY: Alchem Laboratory, Inc. of Ponce, Puerto Rico has applied to Customs and Border Protection under part 151.12 of the Customs Regulations for an extension of accreditation as a commercial laboratory to analyze petroleum products under Chapter 27 and Chapter 29 of the Harmonized Tariff Schedule of the United States (HTSUS). Customs has determined that this company meets all of the requirements for accreditation as a commercial laboratory. Specifically, Alchem Laboratory, Inc. has been granted accreditation to perform the following test methods at their Ponce, Puerto Rico site: (1) Distillation of Petroleum Products, ASTM D86; (2) Kinematic Viscosity of Transparent and Opaque Liquids, ASTM D445; (3) Density, Relative Density (Specific Gravity), or API Gravity of Crude Petroleum and Liquid Petroleum Products by Hydrometer Method, ASTM D1298; (4) Percent by Weight of Sulfur by Energy-Dispersive X-Ray Fluorescence, ASTM D4294. Therefore, in accordance with part 151.12 of the Customs Regulations, Alchem Laboratory, Inc. of Ponce, Puerto Rico is hereby accredited to analyze the products named above.

Location: Alchem Laboratory, Inc. accredited site is located at: Sabanetas Industrial Park, Building M-1380, Ponce, PR 00731.

EFFECTIVE DATE: July 1, 2003.

FOR FURTHER INFORMATION CONTACT: Arlene Faustermann, Science Officer, Laboratories and Scientific Services, Customs and Border Protection, 1300 Pennsylvania Avenue, NW., Suite 1500 North, Washington, DC 20229, (202) 927-1060.

Dated: July 1, 2003.
Ira S. Reese,
Executive Director, Laboratories and Scientific Services.

[FR Doc. 03-17527 Filed 7-10-03; 8:45 am]

BILLING CODE 4820-02-P